NATIONAL AERONAUTICS AND SPACE ADMINISTRATION

[Notice (03-131)]

NASA Advisory Council, Biological and Physical Research Advisory Committee Meeting, Life Sciences Advisory Subcommittee Meeting.

AGENCY: National Aeronautics and Space Administration (NASA).

ACTION: Notice of meeting.

SUMMARY: The NASA Biological and Physical Research Advisory Committee announces a meeting of the Life Sciences Advisory Subcommittee Meeting (LSAS).

DATES: Wednesday, October 22, 2003, from 8:30 a.m. until 5 p.m.

ADDRESSES: NASA Headquarters, 300 E Street, SW., MIC-6A, Room 6H46, Washington, DC 20546.

FOR FURTHER INFORMATION CONTACT: Dr. David Tomko, Code UB, National Aeronautics and Space Administration, Washington, DC 20546, (202) 358-0220.

SUPPLEMENTARY INFORMATION: The meeting will be open to the public up to the seating capacity of the meeting room. Attendees will be requested to sign a register and to comply with NASA security requirements, including the presentation of a valid picture ID, before receiving an access badge. Foreign nationals attending this meeting will be required to provide the following information: full name; gender; date/place of birth; citizenship; visa/green card information (number, type, expiration date); employer/affiliation information (name of institution, address, country, phone); title/position of attendee. Foreign nationals will be escorted at all times. To expedite admittance, attendees can provide identifying information in advance by contacting Dr. David Tomko at (202) 358-0220 or via e-mail at dtomko@hq.nasa.gov.

The agenda for the meeting is as follows:

—Welcome Remarks from Chair

—Action Status from Last Meeting

—Bioastronautics Research Division Update

—Status Report on International Space Station Non-Governmental Organization

—Report on Station and Shuttle Utilization Reinvention Team

—Discussion of LSAS Responsibilities

—Working Lunch—Science Talk “Understanding Group Behavior of Space Explorers”

—Remarks from the Office of Biological and Physical Research Associate Administrator

—Findings and Recommendations

It is imperative that the meeting be held on this date to accommodate the scheduling priorities of the key participants.

June W. Edwards,
Advisory Committee Management Officer, National Aeronautics and Space Administration.

[FR Doc. 03-25913 Filed 10-10-03; 8:45 am]

BILLING CODE 7510-01-P